DEPARTMENT OF COMMERCE

Foreign-Trade Zones Board

[S-167-2018]

Approval of Subzone Status: Schumacher Electric Corporation, Fort Worth, Texas

On October 17, 2018, the Executive Secretary of the Foreign-Trade Zones (FTZ) Board docketed an application submitted by the Metroplex International Trade Development Corporation, grantee of FTZ 168, requesting subzone status subject to the existing activation limit of FTZ 168, on behalf of Schumacher Electric Corporation, in Fort Worth, Texas.

The application was processed in accordance with the FTZ Act and Regulations, including notice in the Federal Register inviting public comment (83 FR 53212, October 22, 2018). The FTZ staff examiner reviewed the application and determined that it meets the criteria for approval.

Pursuant to the authority delegated to the FTZ Board's Executive Secretary (15 CFR Sec. 400.36(f)), the application to establish Subzone 168F was approved on December 6, 2018, subject to the FTZ Act and the Board's regulations, including Section 400.13, and further subject to FTZ 168's 1,955.59-acre activation limit.

Dated: December 6, 2018.
Andrew McGilvray,
Executive Secretary.

[FR Doc. 2018-26872 Filed 12-11-18; 8:45 am]

BILLING CODE 3510-DS-P